DEPARTMENT OF LABOR

Office of the Secretary

Agency Information Collection Activities; Submission for OMB Review; Comment Request; Regulations Governing the Administration of the Longshore and Harbor Workers' Compensation Act

ACTION: Notice.

SUMMARY: The Department of Labor (DOL) is submitting the Office of Workers' Compensation Programs (OWCP) sponsored information collection request (ICR) revision titled, “Regulations Governing the Administration of the Longshore and Harbor Workers' Compensation Act,” to the Office of Management and Budget (OMB) for review and approval for use in accordance with the Paperwork Reduction Act (PRA) of 1995, 44 U.S.C. 3501 et seq.

DATES: Submit comments on or before January 27, 2014.

ADDRESSES: A copy of this ICR with applicable supporting documentation; including a description of the likely respondents, proposed frequency of response, and estimated total burden may be obtained free of charge from the RegInfo.gov Web site at http://www.reginfo.gov/public/do/PRAViewICR?ref_nbr=201309-1240-005 (this link will only become active on the day following publication of this notice) or by contacting Michel Smyth by telephone at 202-693-4129 (this is not a toll-free number) or sending an email to DOL_PRA_PUBLIC@dol.gov.

Submit comments about this request by mail or courier to the Office of Information and Regulatory Affairs, Attn: OMB Desk Officer for DOL-OWCP, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

Authority: 44 U.S.C. 3507(a)(1)(D).

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The ICR seeks to revise the forms associated with regulations administering the Longshore and Harbor Workers' Compensation Act (LHWCA), 33 U.S.C. 901 et seq. The regulations and forms cover the submission of information needed to process benefits claims under the LHWCA and it extensions.

This ICR has been classified as a revision, because of modifications to Form LS-513 (Report of Payments) to collect additional data. An insurance carrier or self-insured employer uses Form LS-513 to file an annual report of total payments made under the LHWCA and its extensions. The modifications to the LS-513 will affect only those few carriers and self-insured employers making payments under the Defense Base Act (DBA), one of the LHWCA's extensions. These entities will now be required to report their DBA payments by contracting agency (i.e., the government agency with which the injured worker's employer contracted) on the form. The OWCP needs this information to cross-reference the information submitted on Form LS-202 (Employer's First Report of Injury or Occupational Illness) and to monitor DBA claims processing and compliance. The ICR is also being revised to reflect that Forms LS-513 and LS-274 (Report of Injury Experience) will not be able to be filed via the Internet, as was previously anticipated.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0014. The current approval is scheduled to expire on August 31, 2015; however, the DOL notes that existing information collection requirements submitted to the OMB receive a month-to-month extension while they undergo review. New requirements would only take effect upon OMB approval. For additional substantive information about this ICR, see the related notice published in the Federal Register on September 18, 2013.

Interested parties are encouraged to send comments to the OMB, Office of Information and Regulatory Affairs at the address shown in the ADDRESSES section within 30 days of publication of this notice in the Federal Register. In order to help ensure appropriate consideration, comments should mention OMB Control Number 1240-0014. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Regulations Governing the Administration of the Longshore and Harbor Workers' Compensation Act.

OMB Control Number: 1240-0014.

Affected Public: Private Sector—businesses or other for-profits.

Total Estimated Number of Respondents: 130,036.

Total Estimated Number of Responses: 130,036.

Total Estimated Annual Burden Hours: 44,955.

Total Estimated Annual Other Costs Burden: $46,866.

Dated: December 19, 2013.
Michel Smyth,
Departmental Clearance Officer.

[FR Doc. 2013-30788 Filed 12-24-13; 8:45 am]

BILLING CODE 4510-CF-P